DEPARTMENT OF ENERGY

Federal Energy Regulatory Commission

Combined Notice of Filings #1

Take notice that the Commission received the following electric rate filings:

Docket Numbers: ER12-1946-011; ER12-1946-012; ER13-2387-005; ER13-2387-006; ER10-1333-011; ER10-1333-012; ER15-190-008; ER15-190-009; ER17-543-005; ER17-543-006; ER18-1343-002; ER18-1343-003.

Applicants: Duke Energy Beckjord, LLC, Duke Energy Florida, LLC, Duke Energy Commercial Enterprises, Inc., Duke Energy Renewable Services, LLC, Duke Energy SAM, LLC, Carolina Solar Power, LLC.

Description: Supplement to November 13, 2018 and December 20, 2018 Notice(s) of Change in Status of the Duke MBR Sellers.

Filed Date: 2/15/19.

Accession Number: 20190215-5111.

Comments Due: 5 p.m. ET 3/8/19.

Docket Numbers: ER19-105-002.

Applicants: PJM Interconnection, L.L.C.

Description: Compliance filing: Response to Commission's Jan 15, 2019 Deficiency Letter re: Quadrennial Review to be effective 12/12/2018.

Filed Date: 2/14/19.

Accession Number: 20190214-5130.

Comments Due: 5 p.m. ET 3/7/19.

Docket Numbers: ER19-1047-000.

Applicants: VESIVEC LLC.

Description: Baseline eTariff Filing: MBRA Tariff to be effective 2/15/2019.

Filed Date: 2/14/19.

Accession Number: 20190214-5094.

Comments Due: 5 p.m. ET 3/7/19.

Docket Numbers: ER19-1048-000.

Applicants: PJM Interconnection, L.L.C.

Description: § 205(d) Rate Filing: Amendment to ISA, Service Agreement No. 4355, Queue No. Z2-011/AD1-109 to be effective 5/10/2018.

Filed Date: 2/14/19.

Accession Number: 20190214-5105.

Comments Due: 5 p.m. ET 3/7/19.

Docket Numbers: ER19-1049-000.

Applicants: PJM Interconnection, L.L.C.

Description: § 205(d) Rate Filing: Original WMPA, SA No. 5295; Queue No. AB1-137 to be effective 1/18/2019.

Filed Date: 2/14/19.

Accession Number: 20190214-5106.

Comments Due: 5 p.m. ET 3/7/19.

Docket Numbers: ER19-1050-000.

Applicants: Quantum Pasco Power, LP.

Description: Tariff Cancellation: Quantum Pasco Notice of Cancellation MBR Tariff to be effective 2/15/2019.

Filed Date: 2/14/19.

Accession Number: 20190214-5107.

Comments Due: 5 p.m. ET 3/7/19.

Docket Numbers: ER19-1051-000.

Applicants: Midcontinent Independent System Operator, Inc.

Description: § 205(d) Rate Filing: 2019-02-14_SA 3253 J498 J499 MPFCA (Granger Tap Sycamore) to be effective 1/31/2019.

Filed Date: 2/14/19.

Accession Number: 20190214-5112.

Comments Due: 5 p.m. ET 3/7/19.

Docket Numbers: ER19-1052-000.

Applicants: ISO New England Inc.

Description: ISO New England Inc. submits Fourth Quarter 2018 Capital Budget Report.

Filed Date: 2/14/19.

Accession Number: 20190214-5095.

Comments Due: 5 p.m. ET 3/7/19.

Docket Numbers: ER19-1053-000.

Applicants: ISO New England Inc.

Description: ISO New England Inc. submits Fourth Quarter 2018 Capital Budget Report.

Filed Date: 2/14/19.

Accession Number: 20190214-5095.

Comments Due: 5 p.m. ET 3/7/19.

Docket Numbers: ER19-1054-000.

Applicants: Midcontinent Independent System Operator, Inc.

Description: § 205(d) Rate Filing: 2019-02-15_SA 3242 OSER-Hoosier Energy GIA (J759) to be effective 2/1/2019.

Filed Date: 2/15/19.

Accession Number: 20190215-5018.

Comments Due: 5 p.m. ET 3/8/19.

Docket Numbers: ER19-1055-000.

Applicants: Portland General Electric Company.

Description: § 205(d) Rate Filing: Attachment N Filing to be effective 4/16/2019.

Filed Date: 2/15/19.

Accession Number: 20190215-5041.

Comments Due: 5 p.m. ET 3/8/19.

Docket Numbers: ER19-1056-000.

Applicants: Southern California Edison Company.

Description: § 205(d) Rate Filing: GIA & Distribution Serv Agmt Montecito Water District Picay Hydroelectric Plant to be effective 1/17/2019.

Filed Date: 2/15/19.

Accession Number: 20190215-5077.

Comments Due: 5 p.m. ET 3/8/19.

Docket Numbers: ER19-1057-000.

Applicants: Pacific Gas and Electric Company.

Description: § 205(d) Rate Filing: Revisions to Appendix A to the US DOE Berkeley Site Office IA LLNL (SA 63) to be effective 4/16/2019.

Filed Date: 2/15/19.

Accession Number: 20190215-5078.

Comments Due: 5 p.m. ET 3/8/19.

Docket Numbers: ER19-1058-000.

Applicants: Midcontinent Independent System Operator, Inc.

Description: § 205(d) Rate Filing: 2019-02-15 Revisions to Attachment FF-4 and VV to add City of Henderson, KY to be effective 4/17/2019.

Filed Date: 2/15/19.

Accession Number: 20190215-5091.

Comments Due: 5 p.m. ET 3/8/19.

Docket Numbers: ER19-1059-000.

Applicants: Northern Iowa Windpower, LLC.

Description: § 205(d) Rate Filing: Revised Tariff, Notice of Category 1 Seller Cntr & Status Change, ER10-1529 to be effective 2/16/2019.

Filed Date: 2/15/19.

Accession Number: 20190215-5118.

Comments Due: 5 p.m. ET 3/8/19.

Docket Numbers: ER19-1060-000.

Applicants: PJM Interconnection, L.L.C.

Description: Tariff Cancellation: Notice of Cancellation of WMPA SA No. 4093, Queue No. Y2-055 to be effective 1/8/2019.

Filed Date: 2/15/19.

Accession Number: 20190215-5137.

Comments Due: 5 p.m. ET 3/8/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 15, 2019.
Nathaniel J. Davis, Sr.,
Deputy Secretary.

[FR Doc. 2019-03143 Filed 2-22-19; 8:45 am]

BILLING CODE 6717-01-P